GENERAL SERVICES ADMINISTRATION

Office of Management Services; Revision of an Optional Form

AGENCY: General Services Administration.

ACTION: Notice.

SUMMARY: The General Services Administration is revising the OF 55, U.S. Government Identification to update the address in the “If found * * *” statement.

Since the form is authorized for local reproduction, agencies may request a camera copy to use for printing from:

Forms Management, (202) 501-0581, e-mail: barbm.williams@gsa.gov; or

The Internet: http://www.gsa.gov/forms.

DATES: Effective November 21, 2002.

FOR FURTHER INFORMATION CONTACT: Ms. Barbara Williams, General Services Administration, (202) 501-0581.

SUPPLEMENTARY INFORMATION:

Dated: November 7, 2002.
Barbara M. Williams,
Deputy Standard and Optional Forms Management Officer, General Services Administration.

[FR Doc. 02-29604 Filed 11-20-02; 8:45 am]

BILLING CODE 6820-34-M